DEPARTMENT OF TRANSPORTATION

Federal Aviation Administration

[Summary Notice No. PE-2002-29]

Petitions for Exemption; Dispositions of Petitions Issued

AGENCY: Federal Aviation Administration (FAA), DOT.

ACTION: Notice of dispositions of prior petitions.

SUMMARY: Pursuant to FAA's rulemaking provisions governing the application, processing, and disposition of petitions for exemption part II of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition.

FOR FURTHER INFORMATION CONTACT: Denise Emrick (202) 267-5174, or Sandy Buchanan-Sumter (202) 267-7271, Office of Rulemaking (ARM-1), Federal Aviation Administration, 800 Independence Avenue, SW., Washington, DC 20591.

This notice is published pursuant to 14 CFR 11.85 and 11.91.

Dated: Issued in Washington, DC, on April 8, 2002.
Donald P. Byrne,
Assistant Chief Counsel for Regulations.

Dispositions of Petitions

Docket No.: FAA-2002-11509.

Petitioner: Atlantic Southeast Airlines, Inc.

Section of 14 CFR Affected: 14 CFR 121.434(c)(1), 121.440, and 121.463(a)(2)

Description of Relief Sought/Disposition: To permit Atlantic Southeast Airlines to allow observations and flight checks to be accomplished in an approved simulator or by qualified and authorized check airmen rather than an FAA inspector.

Grant, 03/26/2002, Exemption No. 7135A

Docket No.: FAA-2001-9874.

Petitioner: Civil Air Patrol.

Section of 14 CFR Affected: 14 CFR 61.113(e) and 119.1(a)(1).

Description of Relief Sought/Disposition: To permit Civil Air Patrol (CAP) to reimburse members for service and maintenance expenses incurred while serving on official U.S. Air Force assigned missions, and to permit CAP/Air Force Reserve Officers' Training Corps cadet orientation flights.

Partial Grant, 03/19/2002, Exemption No. 6771B

[FR Doc. 02-9130 Filed 4-15-02; 8:45 am]

BILLING CODE 4910-13-M